DEPARTMENT OF COMMERCE

Patent and Trademark Office

Agency Information Collection Activities; Submission to the Office of Management and Budget (OMB) for Review and Approval; Comment Request; National Summer Teacher Institute (NSTI) and Master Teacher in Intellectual Property Program (MTIP)

AGENCY: Patent and Trademark Office, Department of Commerce.

ACTION: Notice of information collection; request for comment.

SUMMARY: The United States Patent and Trademark Office (USPTO), as required by the Paperwork Reduction Act of 1995, invites comments on the extension of an existing information collection: 0651-0077 (National Summer Teacher Institute (NSTI) and Master Teacher in Intellectual Property Program (MTIP)). The purpose of this notice is to allow 60 days for public comment preceding submission of the information collection to OMB.

DATES: To ensure consideration, comments regarding this information collection must be received on or before July 12, 2024.

ADDRESSES: Interested persons are invited to submit written comments by any of the following methods. Do not submit Confidential Business Information or otherwise sensitive or protected information.

• Email: InformationCollection@uspto.gov. Include “0651-0077 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to Joyce Ward, Education Director, Office of Public Engagement, United States Patent and Trademark Office, P.O. Box 1450, Alexandria, VA 22313-1450; by telephone at 571-272-8424; or by email at Joyce.Ward@uspto.gov with “0651-0077 comment” in the subject line. Additional information about this information collection is also available at http://www.reginfo.gov under “Information Collection Review.”

SUPPLEMENTARY INFORMATION:

I. Abstract

The United States Patent and Trademark Office (USPTO) conducts the National Summer Teacher Institute (NSTI) on Innovation, STEM, and Intellectual Property. This program, which focuses on innovation, STEM, entrepreneurship, and intellectual property, is offered in support of USPTO's ongoing education and outreach programming and Department of Commerce Innovation initiatives. The Institute, launched in 2014, is part of the USPTO's ongoing efforts to foster innovation, competitiveness and economic growth, domestically and abroad, by providing relevant intellectual property, innovation, and invention education resources to school administrators, teachers, students, and parents.

In 2023, USPTO introduced the Master Teacher in Intellectual Property Program (MTIP) to align and support the USPTO's mission to foster innovation, competitiveness, domestic and international economic growth, and deliver invention IP training to educators across the nation. The MTIP builds a network of qualified NSTI participants and intellectual property educators and enable them to become teacher-leaders. These teacher leaders in turn provide professional development to U.S. educators who seek to learn more about invention and IP education. MTIP teacher-leaders share USPTO resources and practical classroom experience they learned through their implementation of lessons learned at the NSTI.

USPTO facilitates the enhancement of internal and external relations, including stakeholder partnerships and collaborations, and support for Government-wide efforts to promote STEM education initiatives. In order to obtain a broad range of participants for the NSTI and MTIP, the USPTO must collect data related to courses taught, teaching experience, and school district demographics.

Both NSTI and MTIP combine experiential training tools, practices, and project-based learning models to support elementary, middle, and high school teachers in incorporating concepts of making, inventing, entrepreneurship, and innovation into classroom instruction. Recent focuses include the creation and protection of intellectual property; including inventions, knowledge discovery, creative ideas, and expressions of the human mind that may have commercial value and are protectable under patent, trademark, copyright, or trade secret laws. Intellectual property is modeled as both a teaching and learning platform to help inspire and motivate student achievement in science, technology, engineering, and mathematics.

This information collection covers data gathered from applicants and participants in the NSTI and MTIP programs. The USPTO gathers this information from program applications, and participant surveys, workshops, and webinars. The application collects data which the USPTO uses to determine who will be accepted into the respective programs. The participant survey is used to gather feedback from participants for future program enhancements, while the webinar survey allows the USPTO to understand the particular needs and interests of participants.

To account for the recent addition of the MTIP program, the name of this information collection has been changed from “National Summer Teacher Institute” to “National Summer Teacher Institute (NSTI) and Master Teacher in Intellectual Property Program (MTIP)”.

II. Method of Collection

Items in this information collection must be submitted electronically.

III. Data

OMB Control Number: 0651-0077.

Forms:

• PTO/NSTI/001 (NSTI Application)

• PTO/NSTI/002 (NSTI Participant Survey)

• PTO/NSTI/003 (NSTI Webinar Survey)

• PTO/MTIP/001 (MTIP Application)

• PTO/MTIP/002 (MTIP Participant Survey)

• PTO/MTIP/003 (MTIP Webinar Survey)

Type of Review: Extension of a currently approved information collection.

Affected Public: Individuals or households.

Respondent's Obligation: Voluntary.

Estimated Number of Annual Respondents: 14,000 respondents.

Estimated Number of Annual Responses: 27,400 responses.

Estimated Time per Response: The USPTO estimates that the responses in this information collection will take the public approximately between 8 minutes (0.13 hours) and 30 minutes (0.5 hours) to complete. This includes the time to gather the necessary information, create the document, and submit the completed request to the USPTO.

Estimated Total Annual Respondent Burden Hours: 5,998 hours.

Estimated Total Annual Respondent Hourly Cost Burden: $200,334.

Table 1—Total Burden Hours and Hourly Costs to Individual or Household Respondents
Item No. | Item | Estimated annual respondents | Responses per respondent | Estimated annual responses | Estimated time for response (hour) | Estimated annual burden (hour/year) | Rate ¹ ($/hour) | Estimated annual respondent cost burden
|  | (a) | (b) | (a) × (b) = (c) | (b) | (a) × (b) = (c) | (d) | (c) × (d) = (e)
1 | NSTI Application (PTO/NSTI/001) | 2,100 | 1 | 2,100 | 0.50 (30 minutes) | 1,050 | $33.40 | $35,070
1 | NSTI Application (PTO/NSTI/001) | * 900 | 1 | 900 | 0.50 (30 minutes) | 450 | 33.40 | 15,030
2 | NSTI Participant Survey (PTO/NSTI/002) |  | 1 | 900 | 0.25 (15 minutes) | 225 | 33.40 | 7,515
3 | NSTI Webinar Survey (PTO/NSTI/003) |  | 2 | 1,800 | 0.13 (8 minutes) | 234 | 33.40 | 7,816
3 | NSTI Webinar Survey (PTO/NSTI/003) | 4,000 | 2 | 8,000 | 0.13 (8 minutes) | 1,040 | 33.40 | 34,736
4 | MTIP Application (PTO/MTIP/001) | 2,100 | 1 | 2,100 | 0.50 (30 minutes) | 1,050 | 33.40 | 35,070
4 | MTIP Application (PTO/MTIP/001) | ** 900 | 1 | 900 | 0.50 (30 minutes) | 450 | 33.40 | 15,030
5 | MTIP Participant Survey (PTO/MTIP/002) |  | 1 | 900 | 0.25 (15 minutes) | 225 | 33.40 | 7,515
6 | MTIP Webinar/Workshop Survey (PTO/MTIP/003) |  | 2 | 1,800 | 0.13 (8 minutes) | 234 | 33.40 | 7,816
6 | MTIP Webinar/Workshop Survey (PTO/MTIP/003) | 4,000 | 2 | 8,000 | 0.13 (8 minutes) | 1,040 | 33.40 | 34,736
Totals | 14,000 |  | 27,400 |  | 5,998 |  | 200,334
¹ The USPTO expects that secondary schoolteachers will complete the applications and surveys. The professional hourly rate for secondary school teachers is $33.40, as found in the May 2022 Occupational Labor Statistics Report for secondary school teachers (25-2031). The hourly rate is based on the mean annual wage ($69,480), divided by 2,080 (the average annual work hours based on a 40-hour work week); https://www.bls.gov/oes/current/oes252031.htm.
* Respondents for these three lines are individuals who are selected to participate in the NSTI Program or its equivalent. These respondents are distinct from applicants who are not accepted into the program and those who may attend program webinars or workshops.
** Respondents for these three lines are individuals who are selected to participate in the MTIP Program. These respondents are distinct from applicants who are not accepted into the program and those who may attend program webinars or workshops.

Estimated Total Annual Respondent Non-hourly Cost Burden: $0. There are no capital start-up, maintenance costs, recordkeeping costs, filing fees, or postage costs associated with this information collection.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-10399 Filed 5-10-24; 8:45 am]

BILLING CODE 3510-16-P